DEPARTMENT OF HEALTH AND HUMAN SERVICES

[Document Identifier: OS-0990-0460]

Agency Information Collection Request. 60-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before December 3, 2018.

ADDRESSES: Submit your comments to Sherrette.Funn@hhs.gov or by calling (202) 795-7714.

FOR FURTHER INFORMATION CONTACT: When submitting comments or requesting information, please include the document identifier 0990-0460-60D and project title for reference, to Sherrette.funn@hhs.gov, or call the Reports Clearance Officer, (202) 795-7714.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: Office of Adolescent Health Pregnancy Assistance Fund (PAF) Performance Data Collection, FY2018-FY2020.

Type of Collection: (Revision).

OMB No. 0990-0460—Office of Adolescent Health.

Abstract: The Office of Adolescent Health seeks a revision of the Pregnancy Assistance Fund (PAF) performance measures data collection. A new cohort of 23 PAF grantees was funded in 2018. PAF provides funding to States and Tribes to provide expectant and parenting teens, women, fathers and their families with a seamless network of supportive services to help them complete high school or postsecondary degrees; and to help states improve services to expectant females who experience intimate partner violence or stalking, Additional measures have been proposed for addition to the existing menu of approved measures. A 3 year clearance period is requested. The respondents would be the 23 state and tribal entities receiving PAF awards in 2018. Data would be collected annually.

Annualized Burden Hour Table
Forms (if necessary) | Respondents (if necessary) | Number of respondents | Number of responses per respondents | Average burden per response | Total burden hours
PAF Performance Measures Form | All PAF Grant Recipients | 23 | 1 | 29 | 667
Services for PAF grantees funding State Attorney General Offices | PAF Grantees funding State Attorney General Offices | 2 | 1 | 2 | 4
Total |  |  | 1 |  | 671

Terry Clark,
Asst. Paperwork Reduction Act Reports Clearance Officer, Office of the Secretary.

[FR Doc. 2018-21403 Filed 10-1-18; 8:45 am]

BILLING CODE 4168-11-P